DEPARTMENT OF COMMERCE

Economic Development Administration

[Docket No.: 070125020-7021-01]

Solicitation of Applications for the University Center Economic Development Program

AGENCY: Economic Development Administration (EDA), Department of Commerce

ACTION: Notice and request for applications.

SUMMARY: EDA is soliciting competitive applications from accredited institutions of higher education and from consortia of accredited institutions of higher education for FY 2007 University Center Economic Development Program funding in the geographic areas served by its Austin and Denver regional offices. EDA's mission is to lead the federal economic development agenda by promoting innovation and competitiveness, preparing American regions for growth and success in the worldwide economy. Institutions of higher education have many assets and in partnership with EDA establish and operate University Centers. These EDA-sponsored University Centers conduct applied research, provide technical assistance to public and private sector organizations, and conduct other activities with the goal of enhancing regional economic development by promoting a favorable business environment to attract private capital investment and higher-skill, higher-wage jobs.

DATES: The closing date and time for receipt of applications for funding under the FY 2007 University Center Economic Development Program competition is May 3, 2007 at 4 p.m. local time. EDA's Austin and Denver regional offices will each hold a teleconference to answer questions about the FY 2007 University Center Economic Development Program competition on March 8, 2007 and February 27, 2007, respectively. For further information and instructions regarding these teleconferences, please see the information provided below under “Teleconferences.”

ADDRESSES: Applications may be submitted in two formats: (i) In paper format at the addresses provided below; or (ii) electronically in accordance with the procedures provided on www.Grants.gov. The content of the application is the same for paper submissions as it is for electronic submissions. EDA will not accept facsimile transmissions of applications.

Paper Submissions: Applicants in Arkansas, Louisiana, New Mexico, Oklahoma and Texas should submit paper submissions (via postal mail, overnight delivery or hand-delivery) to: FY 2007 University Center Program Competition, Economic Development Administration, Austin Regional Office, 504 Lavaca Street, Suite 1100, Austin, Texas 78701-4037.

Applicants in Colorado, Iowa, Kansas, Missouri, Montana, Nebraska, North Dakota, South Dakota, Utah and Wyoming should submit paper submissions (via postal mail, overnight delivery or hand-delivery) to: FY 2007 University Center Program Competition, Economic Development Administration, Denver Regional Office, 1244 Speer Boulevard, Suite 670, Denver, Colorado 80204-3591.

Electronic Submissions: Applicants may submit applications electronically in accordance with the instructions provided at http://www.Grants.gov. EDA strongly encourages that applicants not wait until the application closing date to begin the application process through http://www.Grants.gov. The preferred file format for electronic attachments (e.g., the Project Narrative and exhibits to Form ED-900A) is portable document format (PDF); however, EDA will accept electronic files in Microsoft Word, WordPerfect, Lotus or Excel formats. Applicants should access the following link for assistance in navigating www.Grants.gov and for a list of useful resources: http://www.grants.gov/applicants/applicant_help.jsp. If you do not find an answer to your question under Frequently Asked Questions, try consulting the Applicant's User Guide. If you still cannot find an answer to your question, contact www.Grants.gov via e-mail at support@grants.gov or telephone at 1.800.518.4726. The hours of operation for www.Grants.gov are Monday-Friday, 7 a.m. to 9 p.m. (EST) (except for Federal holidays). For a copy of the FFO announcement for this request for applications, please see the Web site listed below under “Electronic Access.”

FOR FURTHER INFORMATION CONTACT: For additional information or for a paper copy of the FFO announcement, the designated contact person in the Austin regional office is John Christ. Mr. Christ may be reached at jchrist@eda.doc.gov or at 512.381.8145. The designated contact person in the Denver regional office is Forlesia S. Willis. Ms. Willis may be reached at fwillis@eda.doc.gov or at 303.844.5452. EDA's Internet Web site at http://www.eda.gov also contains additional information on EDA and its programs, including the University Center Economic Development Program.

SUPPLEMENTARY INFORMATION:

Program Information

EDA began administering the University Center Economic Development Program as a competitive multi-year program as part of its FY 2004 Announcement of Federal Funding Opportunity (FFO). Under this multi-year program designation, EDA held University Center Economic Development Program competitions annually in two of its six regional offices during FY 2004 through FY 2006. The Austin and Denver regional offices solicited applications for the FY 2004 University Center competition, the Philadelphia and Chicago regional offices solicited applications for the FY 2005 University Center competition, and the Atlanta and Seattle regional offices solicited applications for the FY 2006 University Center competition.

Electronic Access: The FFO announcement for the FY 2007 University Center Economic Development Program competition is available at www.Grants.gov. Additional information is available through EDA's Internet Web site at http://www.eda.gov.

Funding Availability: Applicants are hereby given notice that the Department of Commerce Appropriation Act for FY 2007 has not been enacted as of the date of publication of this request for applications. EDA is currently operating with appropriations made available under the current continuing resolution for the Department of Commerce, which is in effect through February 15, 2007 (unless further amended or superseded). See H. J. Res. 102, Pub. L. 109-383, amending Division B—Continuing Appropriations Resolution, Pub. L. 109-289, 120 Stat. 1257. EDA anticipates making awards for the University Center Economic Development Program, provided that funding for this program is continued beyond February 15, 2007. In all events, the funding periods and funding amounts referenced in this notice are subject to the availability of FY 2007 funds at the time of award. The Department of Commerce and EDA will not be held responsible for application preparation costs if the University Center Economic Development Program fails to receive funding or is cancelled because of agency priorities. Publication of this notice does not obligate the Department of Commerce or EDA to award any specific grant or cooperative agreement or to obligate all or part of available funds.

Based on recent appropriation levels, EDA anticipates a total of approximately $7,900,000 will be available in FY 2007 for the National, University Center Economic Development and Local Technical Assistance Programs. Of these anticipated amounts, EDA expects to allocate approximately $6,500,000 to the University Center Economic Development Program in FY 2007. Subject to the availability of funding at the time of award, the funds allocated to the University Center Economic Development Program are anticipated to be available until expended. Actual amounts appropriated are likely to vary from these estimates and could be significantly less. The amount of University Center funding available for competition in FY 2007 is expected to be approximately $978,000 for the geographic area served by the Austin regional office and approximately $795,000 for the geographic area served by the Denver regional office. Annual awards for the University Centers selected under the FY 2004 competition were in the $90,000 to $100,000 range in the Austin regional office and in the $95,000 to $155,000 range in the Denver regional office. These regional offices may, however, choose to fund awards under this competition outside of these ranges. The remaining FY 2007 University Center Economic Development Program funds will be used to continue support for current University Centers selected during the FY 2005 and FY 2006 competitions in EDA's other four regional offices.

Statutory Authority: The authority for the University Center Program is section 207 (42 U.S.C. 3147) of the Public Works and Economic Development Act of 1965, as amended (42 U.S.C. 3121 et seq.) (PWEDA). EDA published final regulations (codified at 13 CFR Chapter III) in the Federal Register on September 27, 2006 (71 FR 56658). The final regulations became effective upon publication and reflect changes made to PWEDA by the Economic Development Administration Reauthorization Act of 2004 (Pub. L. 108-373, 118 Stat. 1756). The final regulations and PWEDA are accessible on EDA's Internet Web site at http://www.eda.gov/InvestmentsGrants/Lawsreg.xml.

Catalog of Federal Domestic Assistance (CFDA) Number: 11.303, Economic Development—Technical Assistance.

Applicant Eligibility: An accredited institution of higher education or a consortium of accredited institutions of higher education are eligible to apply for and to receive funding under the University Center Economic Development Program. See section 3(12) of PWEDA (42 U.S.C. 3122(12)) and 13 CFR 300.3. A University-affiliated research foundation also is eligible to apply for and to receive funding under the University Center Economic Development Program, provided it demonstrates (e.g., a letter or other documentation from a University President or Chancellor) that it maintains the full and integral support of the University with respect to its economic development activities. For applicants applying as a consortium, a lead agent should be identified who would have lead responsibility to EDA and to the other members of the consortium for implementing a University Center Economic Development Program award. For FY 2007, the University Center Economic Development Program competition is open to eligible applicants in the geographic areas served by EDA's Austin and Denver regional offices. The Austin regional office serves Arkansas, Louisiana, New Mexico, Oklahoma and Texas. The Denver regional office serves Colorado, Iowa, Kansas, Missouri, Montana, Nebraska, North Dakota, South Dakota, Utah and Wyoming.

Cost Sharing Requirements: Generally, the amount of the EDA grant may not exceed fifty (50) percent of the total cost of the project. Projects may receive an additional amount that shall not exceed thirty (30) percent, as determined by EDA, based on the relative needs of the region in which the project will be located. See section 204(a) of PWEDA (42 U.S.C. 3144) and 13 CFR 301.4(b)(1). The Assistant Secretary of Commerce for Economic Development has the discretion to establish a maximum EDA investment rate of up to one-hundred (100) percent where the project (i) merits and is not otherwise feasible without an increase to the EDA investment rate; or (ii) will be of no or only incidental benefit to the recipient. See section 204(c)(3) of PWEDA (42 U.S.C. 3144) and 13 CFR 301.4(b)(4).

In the application review process, EDA will consider the nature of the contribution (cash or in-kind) and the amount of the matching share funds. While cash contributions are preferred, in-kind contributions, fairly evaluated by EDA, may provide the non-federal share of the total project cost. See section 204(b) of PWEDA (42 U.S.C. 3144) and section I.B. of the FFO announcement for this request for applications. In-kind contributions, which may include assumptions of debt and contributions of space, equipment, and services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project, available as needed and not conditioned or encumbered in any way that precludes its use consistent with the requirements of EDA investment assistance. See 13 CFR 301.5.

Intergovernmental Review: Applications for funding under the University Center Economic Development Program are subject to the State review requirements imposed by Executive Order 12372, “Intergovernmental Review of Federal Programs.”

Evaluation and Selection Procedures: Prior to the review paneling process, EDA's Austin and Denver regional offices will undertake a technical review of each application to ensure that all required forms, signatures and documentation are present and that the application is in compliance with the requirements of this competitive solicitation. Applications materially failing to meet the technical requirements of this competitive solicitation will not be referred to the review panel.

Applications meeting all technical requirements will undergo a merit review by EDA's Austin and Denver regional offices. The review panel will consist of federal employees, at least three (3) of which will be members of EDA staff from the Austin and Denver regional offices, who will evaluate and competitively rate and rank all technically-sufficient applications using the criteria provided under “Evaluation Criteria” below. The Regional Director of each regional office is the Selecting Official for the applications received from applicants located within that regional office's geographic service area. The review panel will submit to the Selecting Official a list of applicants recommended for funding.

Evaluation Criteria: The evaluation of applications will be accomplished through a review using the following criteria, listed in descending order of importance: (i) Ability to satisfy one or more of the University Center-specific investment policy guidelines; (ii) applicant's ability to successfully implement the project; (iii) feasibility of the project budget; and (iv) cost of the project to the Federal government. Each criterion is described below.

Investment Policy Guidelines. The following University Center-specific investment policy guidelines have been adapted from (i) EDA's general investment policy guidelines set forth in 13 CFR 301.8 and (ii) the specific award requirements for University Center projects listed in 13 CFR 306.5. Applications received in response to this competitive solicitation will be competitively rated and ranked based on the project's ability to satisfy one or more of these University Center-specific investment policy guidelines (each criterion will be given equivalent weight).

1. Be market-based and results driven. An investment in an EDA University Center will capitalize on the university's competitive strengths and will bolster regional economic competitiveness, resulting in tangible, quantifiable improvements in regional economic health, such as increased numbers of higher-skill, higher-wage jobs, increased tax revenue or increased private sector investment.

2. Have strong organizational leadership. An investment will have strong leadership, relevant project management experience, and a significant commitment of human resources talent to ensure a high-performing University Center. Specifically for University Center investments, this includes: (a) The extent to which the proposed University Center will maximize coordination with other relevant organizations and avoid duplication of services offered by other organizations; (b) the extent to which the University Center will access, take advantage of, and be supported by the other resources present at the sponsoring institution, especially the institution's economic development activities; and (c) the degree of evidence demonstrating the support and commitment (both financial and non-financial) of the highest management levels of the proposed University Center's sponsoring institution.

3. Advance productivity, innovation and entrepreneurship. An investment in a proposed University Center will embrace the principles of entrepreneurship; enhance regional industry clusters, and leverage and link technology innovators (university research) with the private sector to create the conditions for greater productivity, innovation and higher-skill, higher-wage job creation.

4. Look beyond the immediate economic horizon, anticipate economic changes, and diversify the local and regional economy. A University Center's activities will be part of an overarching, long-term comprehensive economic development strategy that enhances a region's success in achieving a rising standard of living.

5. Demonstrate a high degree of local commitment by exhibiting:

• High levels of local government or non-profit matching funds and private sector leverage;

• Clear and unified leadership and support by local elected officials; and

• Strong cooperation between the business sector, relevant regional partners and local, State and Federal governments.

Ability to Successfully Implement the Project: The review panel will evaluate the applicant's ability to successfully implement the project. This evaluation will include the extent to which the applicant (including its sponsoring institution) has successfully implemented past technical assistance projects, especially those involving economic development. The review panel also will evaluate the expertise of project staff, as well as the academic programs and other resources available within the sponsoring institution. See 13 CFR 306.5.

Feasibility of Project Budget: The review panel will evaluate the feasibility of the project budget, including but not limited to the reasonableness and the allowability of project costs.

Cost of the Project to the Federal Government: The review panel will evaluate the cost of the project to the Federal government, taking into account the technical assistance services to be performed by the University Center and how those services are anticipated to spur regional economic development. As provided under “Cost Sharing Requirements” in this request for applications and in section I.B. of the FFO announcement, EDA may give a preference to those applications that include a cash contribution for the matching share requirement.

Selection Factors

EDA expects to fund the highest ranking applications submitted under this competition solicitation. The Selecting Official will normally follow the recommendations of the review panel; however, the Selecting Official may decide not to make a selection, or he may select an application out of rank order for several reasons, including: (1) A determination that the application better meets the overall objectives of sections 2 and 207 of PWEDA (42 U.S.C. 3121 and 3147); (2) the availability of program funding; (3) the geographic balance in distribution of program funds; (4) program priorities as set forth in the FFO announcement; or (5) the applicant's performance under previous federal financial assistance awards.

The Department of Commerce Pre-Award Notification Requirements for Grants and Cooperative Agreements: The administrative and national policy requirements for all Department of Commerce awards, contained in the Department of Commerce Pre-Award Notification Requirements for Grants and Cooperative Agreements, published in the Federal Register on December 30, 2004 (69 FR 78389), are applicable to this competitive solicitation.

Teleconferences: The Austin regional office will hold a pre-application teleconference on March 8, 2007 at 11 a.m. (CST). The Denver regional office will hold its pre-application teleconference call on February 27, 2007 at 12 p.m. (MST). These teleconferences will provide general program information and information regarding the preparation of applications for funding under this competitive solicitation. To ensure the integrity of this competition, EDA will not provide substantive information regarding the competition to prospective applicants outside of these scheduled teleconferences.

To ensure that enough incoming lines are available for each caller, the Austin regional office requires interested parties planning to participate on the teleconference to register no later than 6 p.m. (CST) on March 6, 2007; the Denver regional office requires interested parties planning to participate on the teleconference to register no later than 12 p.m. (MST) on February 23, 2007. To register, please send an e-mail with “Teleconference Registration” in the subject line to the designated contact person in the Austin or Denver regional office, as provided under “For Further Information” in this request for applications. The telephone number and pass code for each teleconference will be provided upon registration.

Please be advised that the pre-application teleconferences may be audio-taped and the actual recordings or a transcript of the actual recording may be made available online for the benefit of prospective applicants unable to participate. Prospective applicants who choose to participate on the teleconferences are deemed to consent to the taping.

Paperwork Reduction Act

This document contains collection-of-information requirements subject to the Paperwork Reduction Act (PRA). The use of Form ED-900A (Application for Investment Assistance) has been approved by the Office of Management and Budget (OMB) under the control number 0610-0094. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Sandy K. Baruah,
Assistant Secretary of Commerce, for Economic Development.

[FR Doc. E7-1614 Filed 2-1-07; 8:45 am]

BILLING CODE 3510-24-P